NATIONAL AERONAUTICS AND SPACE ADMINSTRATION

[Notice (04-107)]

Return to Flight Task Group; Meeting

AGENCY: National Aeronautics and Space Administration (NASA).

ACTION: Notice of meeting.

SUMMARY: In accordance with the Federal Advisory Committee Act, Public Law 92-463, as amended, the National Aeronautics and Space Administration announces a meeting of the Return to Flight Task Group (RTFTG).

DATES: Thursday, September 16, 2004, from 8 a.m. until 11 a.m. central daylight time.

ADDRESSES: Webster Civic Center, 311 Pennsylvania, Webster, TX 77598.

FOR FURTHER INFORMATION CONTACT: Mr. Vincent D. Watkins at (281) 792-7523.

SUPPLEMENTARY INFORMATION: The meeting will be open to the public up to the seating capacity of the meeting room. Attendees will be requested to sign a register.

The agenda for the meeting is as follows:

• Welcome remarks from Co-Chair

• Discussion of status of NASA's implementation of selected Columbia Accident Investigation Board return to flight recommendations

• Action item summary from Executive Secretary

• Closing remarks from Co-Chair

It is imperative that the meeting be held on this date to accommodate the scheduling priorities of the key participants.

R. Andrew Falcon,
Advisory Committee Management Officer, National Aeronautics and Space Administration.

[FR Doc. 04-20226 Filed 9-3-04; 8:45 am]

BILLING CODE 7510-13-P